DEPARTMENT OF THE INTERIOR

National Park Service

Western Geophysical Company Padre Island National Seashore Kleberg County, TX; Availability of Plan of Operations and Environmental Assessment Phase II—3D Seismic Operation

Notice is hereby given in accordance with Section 9.52(b) of Title 36 of the Code of Federal Regulations that the National Park Service has received from Western Geophysical Company a Plan of Operations for the Phase III-3D seismic operation within Padre Island National Seashore, in Kleberg County, Texas.

The Plan of Operations and Environmental Assessment are available for public review and comment for a period of 30 days from the publication date of this notice in the Office of the Superintendent, Padre Island National Seashore, 20301 Park Road 22, Corpus Christi, Texas. Copies are available from the Superintendent, Padre Island National Seashore, Post Office Box 181300, Corpus Christi, Texas 78480-1300, and will be sent upon request. The Environmental Assessment is also available on the Padre Island web page.

If you wish to comment, you may submit your comments by mailing them to the post office address provided above, or, you may hand-deliver comments to the park at the street address provided above. Our practice is to make comments, including names and home addresses of respondents, available for public review during regular business hours. Individual respondents may request that we withhold their home address from the decisionmaking record, which we will honor to the extent allowable by law. There also may be circumstances in which we would withhold from the decisionmaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: August 14, 2000.
Jock F. Whitworth,
Superintendent, Padre Island National Seashore.

[FR Doc. 00-21698 Filed 8-24-00; 8:45 am]

BILLING CODE 4310-70-P